DEPARTMENT OF ENERGY

Federal Energy Regulatory Commission

[Project No. 14628-001]

Minneapolis Leased Housing Associates IV, Limited Partnership; Notice of Availability of Environmental Assessment

In accordance with the National Environmental Policy Act of 1969 and the Federal Energy Regulatory Commission's (Commission or FERC) regulations, 18 Code of Federal Regulations Part 380 (Order No. 486, 52 Federal Register 47879), the Office of Energy Projects has reviewed Minneapolis Leased Housing Associates IV, Limited Partnership's application for an original license to operate the A-Mill Artist Lofts Hydroelectric Project (FERC Project No. 14628-001), which would be located on the Mississippi River in the City of Minneapolis, Hennepin County, Minnesota, and prepared an environmental assessment (EA).

In the EA, Commission staff analyze the potential environmental effects of licensing the project and conclude that licensing the project, with appropriate measures, would not constitute a major federal action significantly affecting the quality of the human environment.

A copy of the EA is available for review at the Commission in the Public Reference Room or may be viewed on the Commission's Web site at www.ferc.gov using the “eLibrary” link. Enter the docket number, excluding the last three digits, in the docket number field to access the document. For assistance, contact FERC Online Support at FERCOnlineSupport@ferc.gov or toll-free number at 1-866-208-3676, or for TTY, 202-502-8659.

You may also register online at www.ferc.gov/docs-filing/esubscription.asp to be notified via email of new filings and issuances related to this or other pending projects. For assistance, contact FERC Online Support.

For further information, please contact Shana Murray by telephone at (202) 502-8333 or by email at Shana.Murray@ferc.gov.

Dated: September 4, 2015.
Kimberly D. Bose,
Secretary.

[FR Doc. 2015-22918 Filed 9-10-15; 8:45 am]

BILLING CODE 6717-01-P